DEPARTMENT OF ENERGY

Federal Energy Regulatory Commission

[Docket No. CP00-452-000]

Colorado Interstate Gas Company; Notice of Application

September 14, 2000.

Take notice that on September 5, 2000, Colorado Interstate Gas Company (CIG), P.O. Box 1087, Colorado Springs, Colorado 80944, filed in Docket No. CP00-452-000 an application pursuant to Section 7 of the Natural Gas Act (NGA) and the Commission's Rules and Regulations for a certificate of public convenience and necessity authorizing CIG to construct and operate facilities to (i) increase the capacity out of the Raton Basin Area and increase capacity to delivery points east and south of CIG's Campo Regulator Station, and (ii) construct facilities necessary for the treatment requirements relating to gas quality for gas delivered off CIG's Valley Line, all as more fully set forth in the application which is on file with the Commission and open to public inspection. The filing may be viewed at http://www.ferc.fed.us/online/rims.htm (call 202-208-2222 for assistance).

CIG proposes to construct and operate facilities necessary to increase its natural gas transmission system capacity out of the Raton Basin Area in Colorado and New Mexico, by 85 MDth per day. In addition, CIG proposes to increase capacity east and south of its Campo Regulator Station to allow Raton Basin shippers to deliver incremental quantities of gas to interconnects with Panhandle Eastern Pipe Line Company, ANR Pipeline Company, Williams Natural Gas Company, and Natural Gas Pipeline Company of America to the east, and El Paso Natural Gas Company, Northern Natural Gas Company, and Transwestern Pipeline Company to the south. To accomplish this, CIG proposes to construct the following:

• The new Trinidad Compressor Station to be located on the western end of CIG's existing Campo Lateral in Las Animas County, Colorado. The compressor station will consist of one turbine driven centrifugal compressor unit nameplate rated at 4,700 horsepower and appurtenant facilities.

• The new Kim Compressor Station to be located at a mid-point along the Campo Lateral in Las Animas County, Colorado. The compressor station will consist of two high speed natural gas engine driven reciprocating compressor units each nameplate rated at 4,450 horsepower.

• Approximately 48 miles of 20-inch diameter pipeline loop from CIG's existing Morton Compressor Station located in Morton County, Kansas to a point referred to as “Hooker Traps” in Texas County, Oklahoma.

• A new compressor unit at the existing Keyes Compressor Station located in Cimarron County, Oklahoma. The compressor unit will consist of one high speed natural gas engine driven, reciprocating compressor unit nameplate horsepower rated at 4,450 horsepower.

• Recylindering of the existing Beaver County Compressors located in Beaver County, Oklahoma. The Beaver County Compressor Station is currently equipped with three 1100 nameplate horsepower high speed reciprocating compressor units. Due to the change in operating conditions caused by the 48 miles of 20-inch diameter pipeline loop, the compressor cylinders will be replaced to provide more efficient operation. There will be no change in horsepower of the compressor units.

CIG also proposes, as a separate project, to construct and operate facilities related to gas quality control for quantities of gas delivered off CIG's Valley Line. These facilities consist of the following:

• Approximately 21 miles of 8-inch diameter pipeline look from the Keyes Compressor Station located in Cimarron County, Oklahoma to the Campo Regulator Station located in Baca County, Colorado.

• Miscellaneous blending facilities to be constructed pursuant to 18 CFR § 2.55(a) within the Campo Regulator Station yard consisting of valves, controllers, blending meters and yard piping for blending of gas for delivery on CIG's Valley Line.

CIG avers that the total cost of the proposed facilities for the Raton Basin Area expansion and increased delivery flexibility is $51,784,900 and the cost of the gas quality control facilities is estimated to be $4,507,600. CIG states it conducted an open season which resulted in an additional 85 MDth of long term contracts for the expansion. CIG states that the combination of existing and incremental entitlements represent 100 percent of CIG's capacity out of the Raton Basin Area through the Campo Lateral. CIG proposes rolled-in treatment for the expansion out of the Raton Basin Area and access to additional markets, and proposes to collect the cost of service for the gas quality control facilities through its Gas Quality Control Surcharge pursuant to Article 20 of the General Terms and Conditions of its First Revised Volume No. 1 FERC tariff.

Any questions regarding this application should be directed to James R. West, Manager, Certificates, at (719) 520-4679, Colorado Interstate Gas Company, P.O. Box 1087, Colorado Springs, Colorado 80944.

Any person desiring to be heard or to protest with reference to said application should on or before October 5, 2000, file with the Federal Energy Regulatory Commission (Commission), 888 First Street, NE, Washington, DC 20426, a motion to intervene or protest in accordance with the requirements of the Commission's Rules of Practice and procedure (18 CFR 385.211 and 385.214) and the regulations under the Natural Gas Act (NGA) (18 CFR 157.10). All protests filed with the Commission will be considered by it in determining the appropriate action to be taken but will not serve to make the protestants parties to the proceeding. Any person wishing to become a party in any proceeding must file a motion to intervene in accordance with the Commission's rules.

A person obtaining intervenor status will be placed on the service list maintained by the Secretary of the Commission and will receive copies of all documents issued by the Commission, filed by the applicant, or filed by all other intervenors. An intervenor can file for rehearing of any Commission order and can petition for court review of any such order. However, an intervenor must serve copies of comments or any other filing it makes with the Commission to every other intervenor in the proceeding, as well as filing an original and 14 copies with the Commission.

A person does not have to intervene, however, in order to have comments considered, a person, instead, may submit two copies of such comments to the Secretary of the Commission. Commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court.

The Commission will consider all comments and concerns equally, whether filed by Commenters or those requesting intervenor status.

Take further notice that, pursuant to the authority contained in and subject to the jurisdiction conferred upon the Commission by Section 7 and 15 of the NGA and Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for CIG to appear or be represented at the hearing.

Linwood A. Watson, Jr.,
Acting Secretary.

[FR Doc. 00-24093 Filed 9-19-00; 8:45 am]

BILLING CODE 6717-01-M